DEPARTMENT OF THE INTERIOR

Bureau of Land Management

[AZA 31044-01]

Notice of Proposed Withdrawal; Arizona

AGENCY: Bureau of Land Management, Interior.

ACTION: Notice.

SUMMARY: The United States Forest Service, proposes to withdraw approximately 7,840 acres of National Forest System land to protect the Diamond Rim Quartz Crystal Interpretive Area. This notice segregates the land for up to 2 years from location and entry under the United States mining laws. The land will remain open to all other uses which may by law be made of National Forest System land. This application replaces withdrawal application AZA 31044, which has been canceled.

DATES: Comments should be received on or before April 14, 2003.

ADDRESSES: Comments should be sent to the Forest Supervisor, Tonto National Forest, 2324 E. McDowell Road, Phoenix, Arizona 85006.

FOR FURTHER INFORMATION CONTACT: Karyn Harbour, Tonto National Forest, 602-225-5200, or Rod Byers, Payson Ranger District, 520-474-7900.

SUPPLEMENTARY INFORMATION: On April 22, 2002, the Forest Service filed an application to withdraw the following described National Forest System land from location and entry under the United States mining laws, subject to valid existing rights:

Tonto National Forest

Gila and Salt River Meridian

T. 11 N., R. 11 E.,

Sec. 1;

Sec. 2;

Sec. 3;

Sec. 4, E½;

Sec. 10;

Sec. 11;

Sec. 12;

Sec. 13;

Sec. 14;

Sec. 15, NE¼;

Sec. 23, N½;

Sec. 24, N½.

T. 11½ N., R. 11 E.,

Sec. 33, E½;

Sec. 34;

Sec. 35, W½ and SE¼;

Sec. 36, SW¼.

The area described contains approximately 7,840 acres in Gila County.

All persons who wish to submit comments, suggestions, or objections in connection with the proposed withdrawal may present their views in writing, by the date specified above, to the Forest Supervisor of the Tonto National Forest.

The application will be processed in accordance with the regulations set forth in 43 CFR 2300.

For a period of 2 years from the date of publication of this notice in the Federal Register, the land will be segregated as specified above unless the application is denied or canceled or the withdrawal is approved prior to that date.

Application AZA 31044, published in the 64 FR 49023, September 9, 1999, has been canceled.

Steven J. Gobat,
Acting Deputy State Director, Resources Division.

[FR Doc. 03-589 Filed 1-10-03; 8:45 am]

BILLING CODE 3410-11-P